DEPARTMENT OF DEFENSE

Department of the Army, Corps of Engineers

Notice of Intent To Prepare a Tiered Environmental Impact Statement for the New York New Jersey Harbor and Tributaries Coastal Storm Risk Management Feasibility Study

AGENCY: U.S. Army Corps of Engineers, DoD.

ACTION: Notice of intent.

SUMMARY: Pursuant to the requirements of the National Environmental Policy Act (NEPA), the U.S. Army Corps of Engineers, New York District (Corps) is preparing an integrated Feasibility Report/Tiered Environmental Impact Statement (EIS) for the proposed New York and New Jersey Harbor and Tributaries Coastal Storm Risk Management Feasibility Study (NYNJHAT). The study is assessing the feasibility of coastal storm risk management alternatives to be implemented within the authorized study area with a specific emphasis on the New York and New Jersey Harbor, including Raritan Bay, the tidally affected stretches of the Passaic and Hackensack Rivers, and the Hudson River to Troy, New York.

DATES: Comments and suggestions must be submitted by February 12, 2020.

ADDRESSES: Pertinent information about the study can be found at: http://www.nan.usace.army.mil/Missions/Civil-Works/Projects-in-New-York/New-York-New-Jersey-Harbor-Tributaries-Focus-Area-Feasibility-Study/. Interested parties are welcome to send written comments and suggestions concerning the scope of issues to be evaluated within the Tiered EIS to Cheryl R. Alkemeyer, NEPA Lead, Environmental Analysis Branch, Watershed Section, Planning Division, U.S. Army Corps of Engineers, New York District. Mail: Cheryl R. Alkemeyer, USACE Planning Environmental 17-421 c/o PSC Mail Center, 26 Federal Plaza, New York, NY 10278; phone: (917) 790- 8723; email: Cheryl.R.Alkemeyer@usace.army.mil.

FOR FURTHER INFORMATION CONTACT: Questions about the overall NYNJHAT study should be directed to Bryce Wisemiller, Project Manager, U.S. Army Corps of Engineers, New York District, Programs and Project Management Division, Civil Works Programs Branch. Mail: Bryce W. Wisemiller, USACE Programs and Project Management 17-401, c/o PSC Mail Center, 26 Federal Plaza, New York, NY 10278; Phone: (917) 790-8307; email: Bryce.W.Wisemiller@usace.army.mil.

SUPPLEMENTARY INFORMATION:

1. Background

The U.S. Army Corps of Engineers (Corps), in partnership with the New York State Department of Environmental Conservation (NYSDEC) and the New Jersey Department of Environmental Protection (NJDEP) as the non-federal sponsors, are undertaking this study. In addition, the City of New York is a non-federal partner. The NYNJHAT study area, which encompasses the New York metropolitan area, is highly vulnerable to damage from coastal storm surge, wave attack, erosion, and intense rainfall-storm water runoff events that cause riverine or inland flooding, which can exacerbate coastal flooding. The Corps is authorized under Public Law 84-71, June 15, 1955 (69 Stat. 132) to conduct an investigation into potential coastal storm risk management solutions within the NYNJHAT study area. A Feasibility Cost Sharing Agreement (FCSA) was executed in 2016 with the NYSDEC and NJDEP.

2. Study Area

The study area encompasses approximately 2,150 square miles and includes parts of Bergen, Passaic, Morris, Essex, Hudson, Union, Somerset, Middlesex, and Monmouth Counties in New Jersey and Rensselaer, Albany, Columbia, Greene, Duchess, Ulster, Putnam, Orange, Westchester, Rockland, Bronx, New York, Queens, Kings, Richmond, and Nassau Counties in New York. The study area extends upstream of the Hudson River to the federal lock and dam at Troy, New York, the Passaic River to the Dundee Dam, and the Hackensack River to the Oradell Reservoir.

3. Corps Decision Making

As required by Council on Environmental Quality's Principles, Requirements and Guidelines for Water and Land Related Resources Implementation Studies all reasonable alternatives to the proposed Federal action that meet the purpose and need will be considered in the Tiered EIS. The initial focused array of alternatives being formulated are ranging from harbor-wide coastal storm risk management (CSRM) methods to land-based, perimeter CSRM methods, with three alternatives between. All alternatives are anticipated to also include complementary non-structural measures and natural and nature based features as appropriate. To be conservative, all other ongoing studies and projects by USACE and other agencies that can reasonably be expected to be implemented by 2020 are assumed to be in place as part of this study's assumed future “without project” condition.

4. Public Participation

The Corps, the NYSDEC and the NJDEP hosted three agency workshop meetings in January and February 2017, with representatives from federal and state agencies, as well as representatives from local agencies and towns. The Corps initially announced the preparation of an integrated Feasibility Report/Tiered EIS for study in the February 13, 2018 Federal Register. The 45-day NEPA scoping period (July 6-August 20, 2018) was extended to November 5, 2018 based on requested from the public. Nine public NEPA scoping meetings were held throughout the study area. Subsequent to the publication of the February 13, 2018 NOI, the Study was granted an exemption from the requirement to complete the feasibility study within 3 years, as required in Section 1001(a) of the Water Resources Reform and Development Act of 2014. This exemption was granted on October 31, 2018 on an interim basis, and allowed for an additional 15 months to complete the Draft Integrated Feasibility Report and Tier 1 EIS. Therefore, in order to align the revised study schedule with Executive Order 13807, Notice to Withdraw the original NOI was published in the February 13, 2019 Federal Register. To further provide the public with study information, an Interim Report was released on February 19, 2019 that identified the preliminary economic, environmental, engineering and other studies performed to date of the above referenced alternatives. Eight public meetings related to the Interim Report were also held. Comments, concerns and information submitted to the Corps are being evaluated and considered during the development of the Draft EIS. Comments received are continuing to aid the study progress and included in the draft report and will be part of the administrative record

5. Lead and Cooperating Agencies

The U.S. Army Corps of Engineers is the lead federal agency for the preparation of a Tiered EIS in order to meet the requirements of the NEPA and the NEPA Implementing Regulations of the President's Council on Environmental Quality (40 CFR 1500-1508). The following agencies have accepted the invitation to be Cooperating Agencies: U.S. Coast Guard, the U.S. Environmental Protection Agency, the U.S. Fish and Wildlife Service, the National Marine Fisheries Service, the National Park Service, and the Federal Emergency Management Agency agreed to be a Participating Agency. The preparation of a Tiered EIS will be coordinated with New York State, New Jersey State and local municipalities with discretionary authority relative to the proposed actions. The Draft Integrated Feasibility Report/Tiered EIS is currently scheduled for distribution to the public in the summer of 2020.

Jeffrey L. Milhorn,
Major General, USA, Commanding.

[FR Doc. 2020-00289 Filed 1-10-20; 8:45 am]

BILLING CODE 3720-58-P